DEPARTMENT OF DEFENSE

Department of the Navy

Meetings of the Naval Research Advisory Committee

AGENCY: Department of the Navy, DoD.

ACTION: Notice of Closed Meetings.

SUMMARY: The Naval Research Advisory Committee (NRAC) will meet to discuss classified information from government organizations and proprietary information from commercial organizations. All sessions of the September 26 Plenary Session will be devoted to briefings and discussions focusing on emerging threats posed by potential adversaries, the exploitation of physical vulnerabilities and the tactical applications of known and emerging technologies. These sessions will also include proprietary information regarding technology applications and systems under development in the private sector between competing companies. In addition, these sessions will focus on the assessment of the emerging concepts of operations in each of these areas and evaluate appropriate options in such areas as: Training, S&T funding allocation, technology monitoring, and progress assessments; and probable time frames for transformation and implementation. Furthermore, these sessions will identify, review, and assess challenges with the utilization and fielding of various technology applications. All sessions on September 27 will be open to the public except for the meeting period from 4 p.m. to 5 p.m. dealing with the security and counterintelligence briefing which will involve discussions of security policies and procedures classified at the SECRET level.

DATES: The Fall Meetings will be held on Wednesday, September 26, and Thursday, September 27. The sessions open to the public will be on Thursday morning, September 27 at the Pentagon auditorium from 8:30 a.m. to 12 p.m. and on Thursday afternoon from 1:30 p.m. to 4 p.m. The security and counterintelligence briefing on the afternoon of September 27 from 4 p.m. to 5 p.m. and all sessions of September 26 will be closed to the public.

ADDRESSES: The meetings will be held at the Pentagon auditorium and the Headquarters, Office of Naval Research, Arlington, Virginia.

FOR FURTHER INFORMATION CONTACT: Mr. William H. Ellis, Jr., Program Director, Naval Research Advisory Committee, 875 North Randolph Street, Arlington, VA 22203-1995, 703-696-5775.

SUPPLEMENTARY INFORMATION: This notice is provided in accordance with the provisions of the Federal Advisory Committee Act (5 U.S.C. App. 2). All sessions of the first day of the meeting will be devoted to executive sessions that will include discussions and technical examination of information related to the application of research and development to current and projected Navy and Marine Corps issues. Briefings classified at the SECRET level from the Assistant Secretary of the Navy (Research, Development and Acquisition) and high level Navy and Marine Corps officers are scheduled to provide candid assessments of threats, countermeasures and current and projected issues. All sessions of the second day of the meeting will be open to the public, with the exception of one session from 4 p.m. to 5 p.m. devoted to a security and counterintelligence briefing for new members of the committee. This security and counterintelligence briefing has been developed in its entirety for new members of the NRAC, and will outline security policies and procedures as they apply to the NRAC member.

These briefings and discussions will contain proprietary information and information classified at the SECRET level that is specifically authorized under criteria established by Executive Order to be kept SECRET in the interest of national defense and is in fact properly classified pursuant to such Executive Order. The proprietary, classified and non-classified matters to be discussed are so inextricably intertwined as to preclude opening these sessions of the meeting. In accordance with 5 U.S.C. App. 2, section 10(d), the Secretary of the Navy has determined in writing that the public interest requires that these sessions of the meetings be closed to the public because they will be concerned with matters listed in 5 U.S.C. section 552b(c)(1) and (4).

Dated: August 29, 2007.
T.M. Cruz,
Lieutenant, Judge Advocate General's Corps, U.S. Navy, Federal Register Liaison Officer.

[FR Doc. E7-17508 Filed 9-4-07; 8:45 am]

BILLING CODE 3810-FF-P